RAILROAD RETIREMENT BOARD

Agency Forms Submitted for OMB Review, Request for Comments

SUMMARY: In accordance with the Paperwork Reduction Act of 1995 (44 U.S.C. Chapter 35), the Railroad Retirement Board (RRB) will be sending an Information Collection Request (ICR) to the Office of Information and Regulatory Affairs (OIRA), Office of Management and Budget (OMB) to request a revision to the following collection of information: 3220-0002, Application for Employee Annuity Under the Railroad Retirement Act, consisting of RRB Form(s) AA-1, Application for Employee Annuity, AA-1cert, Application Summary and Certification, AA-1d, Application for Determination of Employee's Disability, and G-204, Verification of Worker's Compensation/Public Disability Benefit Information. Our ICR describes the information we seek to collect from the public. Review and approval by OIRA ensures that we impose appropriate paperwork burdens.

The RRB invites comments on the proposed collection of information to determine (1) the practical utility of the collection; (2) the accuracy of the estimated burden of the collection; (3) ways to enhance the quality, utility and clarity of the information that is the subject of collection; and (4) ways to minimize the burden of collections on respondents, including the including the use of automated collection techniques or other forms of information technology. Comments to RRB or OIRA must contain the OMB control number of the ICR. For proper consideration of your comments, it is best if RRB and OIRA receive them within 30 days of publication date.

Previous Requests for Comments: The RRB has already published the initial 60-day notice (71 FR 42887 on July 28, 2006) required by 44 U.S.C. 3506(c)(2). That request elicited no comments.

Information Collection Request (ICR)

Title: Application for Employee Annuity Under the Railroad Retirement Act.

OMB Control Number: 3220-0002.

Form(s) submitted: AA-1, Application for Employee Annuity; AA-1cert, Application Summary and Certification; AA-1d, Application for Determination of Employee's Disability; and G-204, Verification of Worker's Compensation/Public Disability Benefit Information.

Type of request: Revision of a currently approved collection.

Affected public: Individuals or households, State or local government.

Obligation to Respond: Required to obtain or retain benefits.

Abstract: The Railroad Retirement Act provides for payment of age, disability, and supplemental annuities to qualified employees. The application and related forms obtain information about the applicant's family work history, military service, disability benefits from other government agencies and public or private pensions. The information is used to determine entitlement to and the amount of the annuity applied for.

Changes Proposed: The RRB proposes changes to the certification statements of Form(s) AA-1 and AA-1(cert) that are intended to provide additional specificity regarding post-application events that require an applicant to contact the RRB. Other non-burden impacting editorial and formatting changes to Form AA-1cert and Form AA-1 are also proposed. The RRB also proposes the addition of an item to Form AA-1d to ask a disability applicant if any additional medical procedures are scheduled after the filing of the form, and if so, what those procedures are, as well as minor non-burden impacting, editorial and formatting changes. The RRB proposes no changes to Form G-204.

The burden estimate for this ICR is unchanged as follows:

Estimated annual number of respondents: 13,105.

Total annual responses: 18,110.

Total annual reporting hours: 9,498.

FOR FURTHER INFORMATION CONTACT: Copies of the form and supporting documents can be obtained from Charles Mierzwa, the agency clearance officer at (312-751-3363) or Charles.Mierzwa@rrb.gov.

Comments: Comments regarding the information collection should be addressed to Ronald J. Hodapp, Railroad Retirement Board, 844 North Rush Street, Chicago, Illinois 60611-2092 or Ronald.Hodapp@rrb.gov and to the OMB Desk Officer for the RRB, Karen Matsuoka at kmatsuoka@omb.eop.gov, FAX (202) 395-6974.

Charles Mierzwa,
RRB Clearance Officer.

[FR Doc. E6-19067 Filed 11-9-06; 8:45 am]

BILLING CODE 7905-01-P